DEPARTMENT OF TRANSPORTATION

Office of the Secretary

Aviation Proceedings, Agreements Filed the Week Ending October 1, 2004

The following Agreements were filed with the Department of Transportation under the provisions of 49 U.S.C. 412 and 414. Answers may be filed within 21 days after the filing of the application.

Docket Number: OST-2004-19249.

Date Filed: September 29, 2004.

Parties: Members of the International Air Transport Association.

Subject:

PTC2 EUR 0584, PTC2 EUR-ME 0196, PTC2 EUR-AFR 0211

Dated 1 October 2004.

Mail Vote 413—Resolution 010y

Special Passenger Amending Resolution from Algeria.

Intended Effective Date: 18 November 2004.

Andrea M. Jenkins,
Program Manager, Docket Operations, Federal Register Liaison.

[FR Doc. 04-22944 Filed 10-12-04; 8:45 am]

BILLING CODE 4910-62-P